FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 26, 2008.

A. Federal Reserve Bank of Kansas City (Todd Offenbacker, Assistant Vice President) 1 Memorial Drive, Kansas City, Missouri 64198-0001:

1. Peter Joseph Fiene and Jane Frances Fiene, both of Overland Park, Kansas, and the Patrick Robert Fiene Family Irrevocable Trust No. 1, Peter Joseph Fiene, trustee, to acquire voting shares of BOR Bancorp, and thereby indirectly acquire voting shares of Bank of Rothville, both in Rothville, Missouri.

Board of Governors of the Federal Reserve System, June 6, 2006.
Robert deV. Frierson,
Deputy Secretary of the Board.

[FR Doc. E8-13032 Filed 6-10-08; 8:45 am]

BILLING CODE 6210-01-S